DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Export Administration (BXA).

Title: Report of Requests for Restrictive Trade Practice or Boycott, Single or Multiple Transactions.

Agency Form Number: 621P, 6051P, 6051P-A.

OMB Approval Number: 0694-0012.

Type of Request: Extension of a currently approved collection of information.

Burden: 1,298 hours.

Average Hours Per Response: 121 to 151 minutes per response.

Number of Respondents: 1,177 respondents.

Needs and Uses: Used to carefully and accurately monitor requests for participation in foreign boycotts against countries friendly to the U.S. which are received by U.S. persons. Used to note trends in such boycott activity and to assist in carrying out U.S. policy of opposition to such boycotts.

Affected Public: Individuals, businesses or other for-profit institutions.

Respondent's Obligation: Mandatory.

OMB Desk Officer: David Rostker.

Copies of the above information collection proposal can be obtained by calling or writing Madeleine Clayton, DOC Paperwork Clearance Officer, (202) 482-3129, Department of Commerce, Room 6086, 14th and Constitution Avenue, NW., Washington, DC 20230.

Written comments and recommendations for the proposed information collection should be sent within 30 days of publication of this notice to David Rostker, OMB Desk Officer, Room 10202, New Executive Office Building, Washington, DC 20230.

Dated: May 10, 2001.
Madeleine Clayton,
Departmental Paperwork Clearance Officer, Office of the Chief Information Officer.

[FR Doc. 01-12252 Filed 5-15-01; 8:45 am]

BILLING CODE 3510-DT-P